DEPARTMENT OF THE TREASURY

[TREAS-DO-2022-0011]

Agency Information Collection Activities; Proposed Collection; Comment Request; Capital Projects Fund Compliance Reporting

AGENCY: Departmental Offices, U.S. Department of the Treasury.

ACTION: Notice of information collection; request for comment.

SUMMARY: The Department of the Treasury, as part of its continuing effort to reduce paperwork and respondent burden, invites the general public and other federal agencies to comment on the information collections listed below, in accordance with the Paperwork Reduction Act of 1995.

DATES: Written comments must be received on or before January 3, 2023.

ADDRESSES: Send comments regarding the burden estimate, or any other aspect of the information collection, including suggestions for reducing the burden, by either of the following methods:

• Electronically through https://www.regulations.gov (preferred method): Search for Docket ID# TREAS-DO-2022-0011 and follow the instructions for submitting comments. Comments submitted electronically, including attachments will be posted to the docket unchanged.

• Email: PRA@treasury.gov.

FOR FURTHER INFORMATION CONTACT: Copies of the submissions may be obtained from Spencer W. Clark by emailing PRA@treasury.gov, calling (202) 927-5331, or viewing the entire information collection request at www.regulations.gov.

SUPPLEMENTARY INFORMATION:

Title: Coronavirus Capital Projects Fund.

OMB Control Number: 1505-0277.

Type of Review: Revision of a currently approved collection.

Description: Section 604 of the Social Security Act (the “Act”), as added by section 9901 of the American Rescue Plan Act of 2021, Public Law 117-2 (Mar. 11, 2021) established the Coronavirus Capital Projects Fund (“CPF”). The CPF provides $10 billion in funding for the U.S. Department of the Treasury (“Treasury”) to make payments according to a statutory formula to States (defined to include each of the 50 states, the District of Columbia, and Puerto Rico), seven territories and freely associated states (the United States Virgin Islands, Guam, American Samoa, the Commonwealth of the Northern Mariana Islands, the Republic of the Marshall Islands, the Federated States of Micronesia, and the Republic of Palau), and Tribal governments ¹ to carry out critical capital projects directly enabling work, education, and health monitoring, including remote options, in response to the public health emergency with respect to the Coronavirus Disease (COVID-19).

¹ An eligible Tribal government is the recognized governing body of any Indian or Alaska Native tribe, band, nation, pueblo, village, community, component band, or component reservation, individually identified (including parenthetically) in the list published most recently as of the date of enactment of this Act pursuant to section 104 of the Federally Recognized Indian Tribe List Act of 1994 (25 U.S.C. 5131). The State of Hawaii, for exclusive use of the Department of Hawaiian Home Lands and the Native Hawaiian Education Programs to assist Native Hawaiians, is also eligible to apply for funding under this funding category.

The current information collection is being used to solicit information related to quarterly project and expenditure reports and annual performance reports submitted by CPF recipients that are states, territories, or freely associated states. For these recipients, the information collection is being renewed without changes.

Treasury is adding to this information collection Compliance and Reporting Guidance that will be used to solicit information related to annual project, expenditure and performance reports submitted by CPF recipients that are Tribal governments.

The Compliance and Reporting Guidance provides recipients with information needed to fulfill their reporting requirements and compliance obligations. Data is submitted to Treasury using a web-based portal and in accordance with specific data requirements.

Project and expenditure reports must be submitted quarterly for the duration of the period of performance for States, territories, and freely associated states, and annually for the duration of the period of performance for Tribal governments. The project and expenditure report contains a set of standardized questions to ascertain the recipient's use of funds received as of the date of reporting, as well as the status of individual projects. Treasury will make the data submitted by recipients publicly available.

Performance reports must be submitted annually for all recipients for the duration of the period of performance. For states, territories, and freely associated states, the performance report will contain detailed performance data corresponding to the “Programs” specified previously in a recipient's Grant Plan. This will include information on efforts to improve equity and engage communities. The performance report is largely freely written text, and while there are certain data and topics that recipients must cover in the performance report, it is mostly free-form written content. Recipients are required to publish the performance report on their website and provide the reports to Treasury. Treasury will make the performance reports and associated data submitted by recipients publicly available. For Tribal governments, the performance report will also be free-form written content, but is shorter and less detailed.

Form: Compliance and Reporting Guidance for States, Territories, and Freely Associated States; Compliance and Reporting Guidance for Tribal Governments.

Affected Public: State, Territorial, Freely Associated State, and Tribal governments receiving CPF grant funds.

Estimated Number of Respondents: 609.

Frequency of Response: States, territories, and freely associated states: 4 times per year for project and expenditure reports, and 1 time per year for performance reports; Tribal governments: 1 time per year.

Estimated Total Number of Annual Responses: 845.

Estimated Time per Response: 62 hours for State project and expenditure reports. 80 hours for State performance reports. 50 hours for Tribal annual reports.

Estimated Total Annual Burden Hours: 46,852.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Spencer W. Clark,
Treasury PRA Clearance Officer.

[FR Doc. 2022-24083 Filed 11-3-22; 8:45 am]

BILLING CODE 4810-AK-P